DEPARTMENT OF THE INTERIOR

Geological Survey

Agency Information Collection Activities: Submitted for Office of Management and Budget (OMB) Review; Comment Request

AGENCY: U.S. Geological Survey (USGS), Interior.

ACTION: Notice of an extension of an information collection (1028-0060).

SUMMARY: To comply with the Paperwork Reduction Act of 1995 (PRA), we are notifying the public that we have submitted to OMB an information collection request (ICR) to renew approval of the paperwork requirements for “Mine, Development, and Mineral Exploration Supplement, USGS Form 9-4000-A.” This notice also provides the public a second opportunity to comment on the paperwork burden of this ICR.

DATES: Submit written comments by February 28, 2007.

ADDRESSES: You may submit comments on this information collection directly to the Office of Management and Budget (OMB), Office of Information and Regulatory Affairs, OMB, Attention: Desk Officer for the Department of the Interior via OMB e-mail: (OIRA_DOCKET@omb.eop.gov); or by fax (202) 395-6566; identify with (1028-0060).

Submit a copy of your comments to the Department of the Interior, USGS, via:

• E-mail atravnic@usgs.gov. Use Information Collection Number 1028-0060 in the subject line.

• FAX: (703) 648-7069. Use Information Collection Number 1028-0060 in the subject line.

• Mail or hand-carry comments to the Department of the Interior; USGS Clearance Officer, U.S. Geological Survey, 807 National Center, Reston, VA 20192. Please reference Information Collection 1028-0060 in your comments.

FOR FURTHER INFORMATION CONTACT: Imogene P. Bynum at (703) 648-7960. Copies of the collection of information and the form can be obtained by contacting the USGS clearance officer at the phone number listed below.

SUPPLEMENTARY INFORMATION: Title: Mine, Development, and Mineral Exploration Supplement.

OMB Control Number: 1028-0060.

Form Number: 9-4000-A.

Abstract: Respondents supply the U.S. Geological Survey with domestic production, exploration, and mine development data on nonfuel mineral commodities. This information will be published as an Annual Report for use by Government agencies, industry, education programs, and the general public. Response are voluntary. No questions of a “sensitive” nature are asked.

Frequency: Annual.

Estimated Number and Description of Respondents: Approximately 617 nonfuel mineral producers and exploration operations industry.

Annual burden hours: 463.

Estimated Reporting and Reocordkeeping “Non-Hour Cost” Burden: We have not identified any “non-hour cost” burdens associated with this collection of information.

Public Disclosure Statement: The PRA (44 U.S.C. 3501, et seq.) provides that an agency may not conduct or sponsor a collection of information unless it displays a currently valid OMB control number, Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on August 29, 2006, we published a Federal Register notice (71 FR 51208 (announcing that we would submit this ICR to OMB for approval. The notice provided the required 60-day comment period. We have received no comments on the notice.

Bureau clearance officer: Alfred Travnicek, 703-648-7231.

John H. DeYoung, Jr.,
Chief Scientist, Minerals Information Team.

[FR Doc. 07-377 Filed 1-26-06; 8:45 am]

BILLING CODE 4310-Y7-M